DEPARTMENT OF DEFENSE

Department of the Navy

Notice of Intent To Grant Partially Exclusive Patent License; Axis3

AGENCY: Department of the Navy, DoD.

ACTION: Notice of intent to grant license.

SUMMARY: The Department of the Navy hereby gives notice of its intent to grant to Axis3 a revocable, nonassignable, partially exclusive license to practice the Government-Owned inventions described in U.S. Patent No. 9804813.

DATES: Anyone wishing to object to the grant of this license has fifteen (15) days from the publication date of this notice to file written objections along with supporting evidence, if any.

ADDRESSES: Written objections are to be filed with the Office of Research and Technology Applications, Naval Information Warfare Center Pacific, Code 72120, 53560 Hull St., Bldg A33, Room 2531, San Diego, CA 92152-5001. File an electronic copy of objections with paul.a.herbert@navy.mil.

FOR FURTHER INFORMATION CONTACT: Mr. Paul Herbert, 619-553-5118, paul.a.herbert@navy.mil.

(Authority: 35 U.S.C. 209(e); 37 CFR 404.7)

Dated: June 17, 2019.
Meredith Steingold Werner,
Commander, Judge Advocate General's Corps, U.S. Navy, Federal Register Liaison Officer.

[FR Doc. 2019-13119 Filed 6-19-19; 8:45 am]

BILLING CODE 3810-FF-P